DEPARTMENT OF ENERGY

Federal Energy Regulatory Commission

Combined Notice of Filings #1

Take notice that the Commission received the following exempt wholesale generator filings:

Docket Numbers: EG11-119-000.

Applicants: Copper Mountain Solar 1, LLC.

Description: Copper Mountain Solar 1, LLC Notice of Self-Certification of Exempt Wholesale Generator Status.

Filed Date: 08/22/2011.

Accession Number: 20110822-5079.

Comment Date: 5 p.m. Eastern Time on Monday, September 12, 2011.

Docket Numbers: EG11-120-000.

Applicants: Pinnacle Wind, LLC.

Description: Notice of Self-Certification as an Exempt Wholesale Generator of Pinnacle Wind, LLC.

Filed Date: 08/22/2011.

Accession Number: 20110822-5213.

Comment Date: 5 p.m. Eastern Time on Monday, September 12, 2011.

Take notice that the Commission received the following electric rate filings:

Docket Numbers: ER11-4336-002.

Applicants: ISO New England Inc.

Description: ISO New England Inc. submits tariff filing per 35.17(b): Errata to Docket No. ER11-4336-001 to be effective 6/1/2015.

Filed Date: 08/22/2011.

Accession Number: 20110822-5084.

Comment Date: 5 p.m. Eastern Time on Monday, September 12, 2011.

Docket Numbers: ER11-4347-000.

Applicants: ITC Midwest LLC.

Description: ITC Midwest LLC submits tariff filing per 35.13(a)(2)(iii): Filing of Distribution-Transmission Agreement to be effective 10/22/2011.

Filed Date: 08/22/2011.

Accession Number: 20110822-5086.

Comment Date: 5 p.m. Eastern Time on Monday, September 12, 2011.

Docket Numbers: ER11-4348-000.

Applicants: PJM Interconnection, LLC.

Description: PJM Interconnection, LLC submits tariff filing per 35.13(a)(2)(iii): Non-Queued Interconnection Service Agreement—Original Service 2960 to be effective 7/21/2011.

Filed Date: 08/22/2011.

Accession Number: 20110822-5116.

Comment Date: 5 p.m. Eastern Time on Monday, September 12, 2011.

Docket Numbers: ER11-4349-000.

Applicants: Southwest Power Pool, Inc.

Description: Southwest Power Pool, Inc. submits tariff filing per 35.13(a)(2)(iii): 2233 Osage Wind/GRDA Facilities Construction Agreement to be effective 7/21/2011.

Filed Date: 08/22/2011.

Accession Number: 20110822-5144.

Comment Date: 5 p.m. Eastern Time on Monday, September 12, 2011.

Docket Numbers: ER11-4351-000.

Applicants: Pinnacle Wind, LLC.

Description: Pinnacle Wind, LLC submits tariff filing per 35.12: Application for Market-Based Rate Authority to be effective 10/3/2011.

Filed Date: 08/22/2011.

Accession Number: 20110822-5166.

Comment Date: 5 p.m. Eastern Time on Monday, September 12, 2011.

Docket Numbers: ER11-4352-000.

Applicants: Arizona Public Service Company.

Description: Arizona Public Service Company submits tariff filing per 35.13(a)(2)(iii): Service Agreement No. 312, LGIA of Perrin Ranch Wind, LLC to be effective 8/23/2011.

Filed Date: 08/22/2011.

Accession Number: 20110822-5167.

Comment Date: 5 p.m. Eastern Time on Monday, September 12, 2011.

Docket Numbers: ER11-4353-000.

Applicants: California Independent System Operator Corporation.

Description: California Independent System Operator Corporation submits tariff filing per 35.13(a)(2)(iii): 2011-08-22 CAISO Regulation Energy Management Amendment to be effective 12/1/2011.

Filed Date: 08/22/2011.

Accession Number: 20110822-5222.

Comment Date: 5 p.m. Eastern Time on Monday, September 12, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2011.
Nathaniel J. Davis, Sr.,
Deputy Secretary.

[FR Doc. 2011-22092 Filed 8-29-11; 8:45 am]

BILLING CODE 6717-01-P